NUCLEAR REGULATORY COMMISSION

Sunshine Federal Register Notice

Date: Weeks of November 25, December 2, 9, 16, 23, 30, 2002.

Place: Commissioners' Conference Room, 11555 Rockville Pike, Rockville, Maryland.

STATUS: Public and Closed.

Matters to be Considered:

Week of November 25, 2002

Tuesday, November 26, 2002

9:30 a.m.—Discussion of Security Issues (Closed—Ex.1)

Week of December 2, 2002—Tentative

Wednesday, December 4, 2002

10 a.m.—Briefing on Decommissioning Bankruptcy Issues (Closed—Ex. 4 & 9)

Week of December 9, 2002—Tentative

There are no meetings scheduled for the Week of December 9, 2002.

Week of December 16, 2002—Tentative

Tuesday, December 17, 2002

9:30 a.m.—Briefing on policy options and recommendations for revising the NRC's process for handling discrimination issues (public meeting) (Contact: Ho Nieh, 301-415-1721)

This meeting will be webcast live at the Web address— http://www.nrc.gov.

Wednesday, December 18, 2002

9:30 a.m.—Meeting with advisory committee on nuclear waste (ACNW) (public meeting) (Contact: John Larkins, 301-415-7360)

This meeting will be webcast live at the Web address— http://www.nrc.gov.

Week of December 23, 2002—Tentative

There are no meetings scheduled for the Week of December 23, 2002.

Week of December 30, 2002—Tentative

There are no meetings scheduled for the Week of December 30, 2002.

* The schedule for Commission meetings is subject to change on short notice. To verify the status of meetings call (recording)—(301) 415-1292. Contact person for more information: R. Michelle Schroll (301) 415-1662.

* * * * *

Additional Information: By a vote of 5-0 on November 20, 2002, the Commission determined pursuant to U.S.C. 552b(e) and 9.107(a) of the Commission's rules that “Affirmation of (a) Final Rule on Decommissioning Trust Provisions, (b) Final Rule: Material Control and Accounting Amendments, (c) Dominion Nuclear Connecticut, Inc. (Millstone Nuclear Power Station, Unit No. 3; Facility Operating License NPF-49), and (d) Pacific Gas & Electric Co. (Diablo Canyon Power Plant Independent Spent Fuel Storage Installation); Petition to Suspend Proceeding Pending Comprehensive Review of Adequacy of Design and Operation Measures to Protect Against Terrorist Attack and Other Acts of Malice or Insanity” be held on November 21, 2002, and on less than one week's notice to the public.

* * * * *

The NRC Commission Meeting Schedule can be found on the Internet at: http://www.nrc.gov/what-we-do/policy-making/schedule.html.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: November 21, 2002.
R. Michelle Schroll,
Acting Technical Coordinator, Office of the Secretary.

[FR Doc. 02-30099 Filed 11-22-02; 12:06 pm]

BILLING CODE 7590-01-M